DEPARTMENT OF VETERANS AFFAIRS

[OMB Control No. 2900-0209]

Agency Information Collection Activity Under OMB Review: Application for Work Study Allowance, Student Work Study Agreement-Advance Payment, Extended Student Work Study Agreement, Student Work Study Agreement

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden, and it includes the actual data collection instrument.

DATES: Written comments and recommendations for the proposed information collection should be sent within 30 days of publication of this notice by clicking on the following link www.reginfo.gov/public/do/PRAMain, select “Currently under Review—Open for Public Comments”, then search the list for the information collection by Title or “OMB Control No. 2900-0209.”

FOR FURTHER INFORMATION CONTACT: Maribel Aponte, Office of Enterprise and Integration, Data Governance Analytics (008), 810 Vermont Ave. NW, Washington, DC 20420, (202) 266-4688 or email Maribel.aponte@va.gov. Please refer to “OMB Control No. 2900-0209” in any correspondence.

SUPPLEMENTARY INFORMATION:

Authority: 38 U.S.C. 3485; 38 CFR 21.4145.

Title: Application for Work Study Allowance [VA Form 22-8691]; Student Work Study Agreement-Advance Payment [VA Form 22-8692]; Extended Student Work Study Agreement [VA Form 22-8692a]; Student Work Study Agreement [VA Form 22-8692b].

OMB Control Number: 2900-0209.

Type of Review: Revision of a currently approved collection.

Abstract: VA uses the information collected to determine the individual's eligibility for the work-study allowance, the number of hours the individual will work, the amount payable, whether the individual desires an advance payment, and whether the individual wants to extend the work-study contract.

An agency may not conduct or sponsor, and a person is not required to respond to a collection of information unless it displays a currently valid OMB control number. The Federal Register Notice with a 60-day comment period soliciting comments on this collection of information was published at 89 FR 12946 on Tuesday, February 20, 2024, page(s) 12946-12947.

Affected Public: Individuals and households.

Estimated Annual Burden: 7,542 hours.

Estimated Average Burden Time per Respondent: 23 minutes [15 min. VAF 22-8691]; [5 min. VAFs 22-8692 and 22-8692b]; [3 min. VAF 22-8692a].

Frequency of Response: Annually.

Estimated Number of Respondents: 75,451.

By direction of the Secretary.
Maribel Aponte,
VA PRA Clearance Officer, Office of Enterprise and Integration, Data Governance Analytics, Department of Veterans Affairs.

[FR Doc. 2024-08938 Filed 4-25-24; 8:45 am]

BILLING CODE 8320-01-P